DEPARTMENT OF ENERGY

Federal Energy Regulatory Commission

Combined Notice of Filings

Take notice that the Commission has received the following Natural Gas Pipeline Rate and Refund Report filings:

Filings Instituting Proceedings

Docket Number: PR17-56-000.

Applicants: Enbridge Pipelines (East Texas) L.P.

Description: Tariff filing per 284.123(b),(e)/: EPET PR17-33-000 Supplemental Information to be effective 8/4/2017 under PR17-56 Filing Type: 980.

Filed Date: 8/4/17.

Accession Number: 201708045128.

Comments/Protests Due: 5 p.m. ET 8/25/17.

Docket Numbers: RP17-965-000.

Applicants: Northern Natural Gas Company.

Description: Petition for a Limited Waiver of Northern Natural Gas Company.

Filed Date: 08/07/2017.

Accession Number: 20170807-5183.

Comment Date: 5:00 p.m. Eastern Time on Monday, August 21, 2017.

Docket Numbers: RP17-966-000.

Applicants: Equitrans, L.P.

Description: Equitrans, L.P. submits tariff filing per 154.204: Negotiated Rate Service Agreement—DFS Name Change to be effective 5/12/2017.

Filed Date: 08/08/2017.

Accession Number: 20170808-5151.

Comment Date: 5:00 p.m. Eastern Time on Monday, August 21, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2017.
Nathaniel J. Davis, Sr.
Deputy Secretary

[FR Doc. 2017-17262 Filed 8-15-17; 8:45 am]

BILLING CODE 6717-01-P